COMMITTEE FOR PURCHASE FROM PEOPLE WHO ARE BLIND OR SEVERELY DISABLED

Procurement List; Proposed Additions and Deletion

ACTION: Proposed Additions to and Deletion from the Procurement List.

SUMMARY: The Committee is proposing to add to the Procurement List products to be furnished by nonprofit agencies employing persons who are blind or have other severe disabilities, and to delete a service previously furnished by such agencies.

Comments Must Be Received on or Before: March 30, 2008.

ADDRESSES: Committee for Purchase From People Who Are Blind or Severely Disabled, Jefferson Plaza 2, Suite 10800, 1421 Jefferson Davis Highway, Arlington, Virginia 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

Additions: If the Committee approves the proposed additions, the entities of the Federal Government identified in this notice for each product will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List.

Comments on this certification are invited. Commenters should identify the statement(s) underlying the certification on which they are providing additional information.

End of Certification

The following products are proposed for addition to Procurement List for production by the nonprofit agencies listed:

Products

Fan Folded Self-Stick Note

NSN: 7530-00-NIB-0851—Value Pack with Dispenser

NPA: Association for the Blind & Visually Impaired-Goodwill Ind. of Greater Rochester, Rochester, NY

Coverage: A-List for the total Government requirement as specified by the General Services Administration.

Contracting Activity: General Services Administration, Federal Supply Services, Region 2, New York, NY

Steering Wheel

NSN: 2530-00-277-2689

NPA: Opportunities, Inc. of Jefferson County, Fort Atkinson, WI

Coverage: C-List for the requirement of the Defense Supply Center Columbus, Columbus, OH

Contracting Activity: Defense Supply Center Columbus, Columbus, OH

Pushpins, Assorted Colors

NSN: 7510-01-207-3978

NPA: Delaware County Chapter, NYSARC, Inc., Walton, NY

Coverage: A-List for the total Government requirement as specified by the General Services Administration.

Contracting Activity: General Services Administration, Office Supplies & Paper Products Acquisition Ctr, New York, NY

Mop, Flat, Microfiber

NSN: 7920-00-NIB-0470—3M SKILCRAFT Easy Scrub Flat Mop Tool with 16″ pad holder

NSN: 7920-00-NIB-0471—3M SKILCRAFT Easy Scrub Flat Mop 18″ pads, White

NSN: 7920-00-NIB-0472—3M SKILCRAFT Easy Scrub Flat Mop 18″ pads, Blue

NSN: 7920-00-NIB-0473—3M SKILCRAFT Easy Scrub Flat Mop 18″ pads, Red

NSN: 7920-00-NIB-0474—3M SKILCRAFT Easy Scrub Flat Mop 18″ pads, Green

NSN: 7920-00-NIB-0475—3M SKILCRAFT East Scrub Starter Kit

NSN: 7920-00-NIB-0476—SKILCRAFT 18″ Blue Wet Mop

NSN: 7920-00-NIB-0477—SKILCRAFT 24″ Blue Wet Mop

NSN: 7920-00-NIB-0478—SKILCRAFT 18″ Yellow Dust Mop

NSN: 7920-00-NIB-0479—SKILCRAFT 24″ Yellow Dust Mop

NSN: 7920-00-NIB-0480—SKILCRAFT Flat Mop Handle with Frame 18″

NSN: 7920-00-NIB-0481—SKILCRAFT Flat Mop Handle with Frame 24″

NPA: New York City Industries for the Blind, Inc., Brooklyn, NY

Coverage: C-List for the requirement of the Department of Veterans Affairs, Hines, IL

Contracting Activity: Department of Veterans Affairs, National Contracts Division, Hines, IL

Deletion

Regulatory Flexibility Act Certification

I certify that the following action will not have a significant impact on a substantial number of small entities. The major factors considered for this certification were:

1. If approved, the action should not result in additional reporting, recordkeeping or other compliance requirements for small entities.

2. If approved, the action may result in authorizing small entities to furnish the service to the Government.

3. There are no known regulatory alternatives which would accomplish the objectives of the Javits-Wagner-O'Day Act (41 U.S.C. 46-48c) in connection with the service proposed for deletion from the Procurement List.

Comments on this certification are invited. Commenters should identify the statement(s) underlying the certification on which they are providing additional information.

End of Certification

The following service is proposed for deletion from the Procurement List:

Service

Service Type/Location: Janitorial/Custodial, U.S. Federal Building and U.S. Post Office, 304 N. 8th, Boise, ID

NPA: Western Idaho Training Company, Inc., Caldwell, ID

Contracting Activity: General Services Administration, Public Building Services, Region 10

Kimberly M. Zeich,
Director, Program Operations.

[FR Doc. E8-3891 Filed 2-28-08; 8:45 am]

BILLING CODE 6353-01-P